Executive Order 13264 of June 4, 2002

Amendment to Executive Order 13180, Air Traffic Performance-Based Organization

By the authority vested in me as President by the Constitution and the laws of the United States of America, it is hereby ordered that Executive Order 13180 of December 7, 2000, is amended as follows:

Section 1. The first sentence of that order is amended by deleting “, an inherently governmental function,”.

Sect. 2. Section 6 of that order is amended to read as follows: “This order is intended only to improve the internal management of the executive branch and is not intended to, nor does it, create any right to administrative or judicial review, or any right, whether substantive or procedural, enforceable by any party against the United States, its agencies or instrumentalities, its officers or employees, or any other person.”

B

THE WHITE HOUSE,

Washington, June 4, 2002.

[FR Doc. 02-14497

Filed 6-6-02; 8:45 am]

Billing code 3195-01-P